Proclamation 10075 of September 11, 2020

National Historically Black Colleges and Universities Week, 2020

By the President of the United States of America

A Proclamation

For more than 180 years, our Nation's Historically Black Colleges and Universities (HBCUs) have exhibited remarkable excellence in higher education and served as engines of opportunity and advancement for thousands of Black Americans. During National Historically Black Colleges and Universities Week, we celebrate the achievements of HBCUs and their students and pledge our continuing support to the nearly 300,000 individuals currently pursuing their dreams at HBCUs throughout the United States.

For nearly two centuries, HBCU graduates have profoundly shaped American life and culture. In science and technology, HBCU graduates have led the way in innovation, like engineer and inventor Otis Boykin, who held more than 20 patents during his lifetime, including for a wire precision resistor used in radios and televisions, and for a control unit used in pacemakers that helped save countless lives. From thought leaders like Booker T. Washington and civil rights heroes like Martin Luther King, Jr., to great legal minds like Thurgood Marshall and renowned authors like James Weldon Johnson, our Republic is more vibrant because of HBCUs and their students.

My Administration will always stand beside these wonderful colleges and universities as they pursue their mission to provide their students with a high-quality education. In order to further promote the success of HBCUs in the years to come, I signed an Executive Order in February of 2017 on the White House Initiative to Promote Excellence and Innovation at Historically Black Colleges and Universities. This action established the President's Board of Advisors on HBCUs, and as a result, 32 Federal departments and agencies now have plans in place to help HBCUs secure available Federal resources and opportunities. Additionally, my Administration recently released a Framework for the Development of a Federal HBCU Competitiveness Strategy, further facilitating productive partnerships between HBCU students and faculty members and public and private-sector entities.

This year, National HBCU Week also coincides with the 150th anniversary of two of South Carolina's great historically black institutions: Allen University and Benedict College. Our Nation joins these schools in celebrating this significant milestone and their incredible legacies. Last year, at Benedict College, I was proud to highlight an increase of more than 13 percent in Federal funding for HBCUs under my Administration. In addition, I signed into law the FUTURE Act, which reauthorized more than $85 million in funding for HBCUs, securing permanent funding for our Nation's historically black institutions and helping ensure their financial security for future generations.

My Administration has also continued to prioritize HBCUs during the coronavirus pandemic, and we remain committed to helping them safely reopen for in-person classes. As part of this effort, the Coronavirus Aid, Relief, and Economic Security (CARES) Act, which I signed into law in March of this year, provided $930 million in higher education emergency relief funds for HBCUs. During these challenging times, my Administration is working to meet the needs of these great institutions and their students as they seek to safely reopen their doors. We know full well the important role they will play in our ongoing national recovery.

HBCUs help empower young Americans from all backgrounds to achieve their American Dream. This week, we proudly reaffirm our support for HBCUs and pledge to continue to promote their success and provide support to their vital educational mission.

NOW, THEREFORE, I, DONALD J. TRUMP, President of the United States of America, by virtue of the authority vested in me by the Constitution and the laws of the United States, do hereby proclaim September 20 through September 26, 2020, as National Historically Black Colleges and Universities Week, and further proclaim September 21, 2020, as National HBCU Colors Day. I call upon educators, public officials, professional organizations, corporations, and all Americans to proudly don institutional colors and observe this week and day with appropriate programs, ceremonies, and activities that acknowledge the countless contributions these institutions and their alumni have made to our country. I call upon all Americans to observe this week with appropriate programs, ceremonies, and activities and to boldly, joyfully, and proudly don institutional colors.

IN WITNESS WHEREOF, I have hereunto set my hand this eleventh day of September, in the year of our Lord two thousand twenty, and of the Independence of the United States of America the two hundred and forty-fifth.

[FR Doc. 2020-21126

Filed 9-22-20; 8:45 am]

Billing code 3295-F0-P